NUCLEAR REGULATORY COMMISSION

Biweekly Notice; Applications and Amendments to Facility Operating Licenses

Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from September 1, 2005, to September 15, 2005. The last biweekly notice was published on September 13, 2005 (70 FR 54085).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area 01F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) the name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by email to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by email to pdr@nrc.gov.

Duke Energy Corporation, et al., Docket Nos. 50-413 and 50-414, Catawba Nuclear Station, Units 1 and 2, York County, South Carolina; Docket Nos. 50-269, 50-270, and 50-287, Oconee Nuclear Station, Units 1, 2, and 3, Oconee County, South Carolina; Docket Nos. 50-369 and 50-370, McGuire Nuclear Station, Units 1 and 2, Mecklenburg County, North Carolina

Date of amendment request: August 5, 2005.

Description of amendment request: The proposed amendments request NRC consent to the indirect transfer of control of the licenses for the Oconee Nuclear Station, Units 1, 2, and 3, the McGuire Nuclear Station, Units 1 and 2, and the Catawba Nuclear Station, Units 1 and 2. The transfers of control will result from the creation of a new holding company that will become the parent of the current licensee. The new holding company, to be named Duke Energy Corporation, that will result from the business combination of Duke Energy with Cinergy Corporation (Cinergy). The licensee, current Duke Energy, will convert to a limited liability company (LLC) and be re-named Duke Power Company LLC (Duke Power).

Basis for proposed no significant hazards consideration determination: As required by 10 CFR 50.91(a), the licensee has provided its analysis of the issue of no significant hazards consideration, which is presented below:

1. The Conforming Amendments Do Not Involve a Significant Increase in the Probability or Consequences of an Accident Previously Evaluated

The amendments do not involve any change in the design, configuration, or operation of the nuclear units. All Limiting Conditions for Operation, Limiting Safety System Settings and Safety Limits specified in the Technical Specifications remain unchanged. Also, the Physical Security Plans and related plans, the Operator Training and Requalification Programs, the Quality Assurance Programs, and the Emergency Plans will not be materially changed by the proposed license transfers and amendments.

The technical qualifications of the operating licensee will not be reduced. Personnel engaged in operation, maintenance, engineering, assessment, training, and other related services will not be changed. The Duke Energy officers and executives currently responsible for the overall safe operation of the nuclear plants are expected to continue in the same capacity.

2. The Conforming Amendments Do Not Create the Possibility of a New or Different kind of Accident From Any Accident Previously Evaluated

The amendments do not involve any change in the design, configuration, or operation of the nuclear plant. The current plant design and design bases will remain the same. The current plant safety analyses, therefore, remain complete and accurate in addressing the design basis events and in analyzing plant response and consequences.

The Limiting Conditions for Operations, Limit Safety System Settings and Safety Limits specified in the Technical Specifications are not affected by the proposed changes. As such, the plant conditions for which the design basis accident analyses were performed remain valid.

The amendments do not introduce a new mode of plant operation or new accident precursors, do not involve any physical alterations to plant configurations, or make changes to system set points that could initiate a new or different kind of accident.

3. The Conforming Amendments Do Not Involve a Significant Reduction in a Margin of Safety

The amendments do not involve a change in the design, configuration, or operation of the nuclear plants. The change does not affect either the way in which the plant structures, systems, and components perform their safety function or their design and licensing bases.

Plant safety margins are established through Limiting Conditions for Operation, Limiting Safety System Settings and Safety Limits specified in the Technical Specifications. Because there is no change to the physical design of the plant, there is no change to any of these margins.

The NRC staff has reviewed the licensee's analysis and, based on this review, it appears that the three standards of 10 CFR 50.92(c) are satisfied. Therefore, the NRC staff proposes to determine that the amendment request involves no significant hazards consideration.

Attorney for licensee: Ms. Lisa F. Vaughn, Legal Department (PB05E), Duke Energy Corporation, 422 South Church Street, Charlotte, North Carolina 28201-1006.

NRC Section Chief: Evangelos C. Marinos.

Energy Northwest, Docket No. 50-397, Columbia Generating Station, Benton County, Washington

Date of amendment request: August 17, 2005.

Description of amendment request: The proposed amendment would allow a one-time extension of the 72-hour Completion Time for the Required Action of Condition B of Technical Specification 3.7.1, “Standby Service Water (SW) System and Ultimate Heat Sink (UHS),” and a one-time exemption from Note 1 of part B.1 of this Required Action. Specifically, the proposed one-time extension request is for an additional 72 hours to the Completion Time and would result in a 144-hour Completion Time for an inoperable SW subsystem. This would allow extensive maintenance to be conducted on the SW train B pump, not capable of being completed in the current 72-hour Completion Time.

Basis for proposed no significant hazards consideration determination: As required by 10 CFR 50.91(a), the licensee has provided its analysis of the issue of no significant hazards consideration, which is presented below:

1. The proposed change does not involve a significant increase in the probability or consequences of an accident previously evaluated.

Response: No.

Since only one subsystem of SW components is affected by the condition and an additional failure is not considered while a plant is in a Limiting Condition for Operation (LCO) Action, the operable SW subsystem is adequate to maintain compliance with the plant's design basis. Thus, this condition will not alter assumptions relative to the mitigation of an accident or transient event.

Energy Northwest has determined that there is no significant risk associated with the operation of the plant for an additional 3 days with one SW subsystem out of service. The incremental change in risk has been quantitatively evaluated using the guidance of Regulatory Guide [RG] 1.174 and 1.177. The incremental risk values are within the criteria of Region III (where the increase in risk is considered “very small”) as established in RG 1.174.

Based on this evaluation, there is no significant increase in the probability or consequence of an accident previously evaluated.

2. The proposed change does not create the possibility of a new or different kind of accident from any accident previously evaluated.

Response: No.

This proposed action only extends the CT [Completion Time] and will not physically alter the plant. No new or different type of equipment will be installed by this action. The changes in methods governing normal plant operation are consistent with current safety analysis assumptions. No change to the system as evaluated in the Columbia Generating Station safety analysis is proposed. Therefore, this proposed change does not create the possibility of a new or different kind of accident from any accident previously evaluated.

3. The proposed change does not involve a significant reduction in a margin of safety.

Response: No.

Columbia is designed with sufficient redundancy such that a SW subsystem may be removed from service for maintenance or testing. The remaining subsystem is capable of providing water and removing heat loads to satisfy the UFSAR [Updated Final Safety Analysis Report] requirements for accident mitigation or unit safe shutdown.

A risk-informed evaluation concluded that the risk contribution of the CT extension is non-risk significant.

There will be no change to the manner in which safety limits or limiting safety system settings are determined nor will there be any change to those plant systems necessary to assure the accomplishment of protection functions. For these reasons, the proposed amendment does not involve a significant reduction in a margin of safety.

Based upon the analysis provided herein, the proposed amendments do not involve a significant hazards consideration.

The NRC staff has reviewed the licensee's analysis and, based on this review, it appears that the three standards of 10 CFR 50.92(c) are satisfied. Therefore, the NRC staff proposes to determine that the amendment request involves no significant hazards consideration.

Attorney for licensee: Thomas C. Poindexter, Esq., Winston & Strawn, 1400 L Street, NW., Washington, DC 20005-3502.

NRC Section Chief: Daniel S. Collins, Acting.

FirstEnergy Nuclear Operating Company, Docket No. 50-346, Davis-Besse Nuclear Power Station, Unit 1, Ottawa County, Ohio

Date of amendment request:

July 27, 2005.

Description of amendment request: The proposed change would revise technical specification (TS) 3/4.8.1.1, “A. C. Sources—Operating,” to adopt a more recent standard for diesel fuel oil testing and remove the restriction that certain surveillance requirements be performed during shutdown.

Basis for proposed no significant hazards consideration determination: As required by 10 CFR 50.91(a), the licensee has provided its analysis of the issue of no significant hazards consideration, which is presented below:

1. Does the proposed change involve a significant increase in the probability or consequences of an accident previously evaluated?

Response: No.

The proposed change to TS SR [surveillance requirement] 4.8.1.1.2.b affects the testing standard for the fuel oil supply for the emergency diesel generators (EDGs). The fuel oil supply is not an initiator of any accident previously evaluated. The fuel oil supply supports the accident mitigation functions of the EDGs, which serve as the standby source for A.C. power in the event of a loss of offsite power. Adoption of a more recent standard does not affect the capability of the diesel fuel oil to perform its required function. Therefore, the proposed change to SR 4.8.1.1.2.b does not involve a significant increase in the probability or consequences of an accident previously evaluated.

The proposed change to TS SR 4.8.1.1.2.d affects the performance of load rejection testing and the 60-minute loaded run at greater than or equal to 2000 kW. Evaluations and operating history have demonstrated that performance of these tests online will not impact electrical distribution system reliability. No anticipated operational occurrence or accident would occur as a result of performing these tests online. Although the EDGs are rendered inoperable and unavailable during performance of these tests, these tests would be performed in conjunction with testing required by other specifications; therefore, the accumulated time of EDG inoperability and unavailability would not increase. The proposed change to SR 4.8.1.1.2.d does not involve a significant increase in the probability or consequences of an accident previously evaluated.

2. Does the proposed change create the possibility of a new or different kind of accident from any accident previously evaluated?

Response: No.

The proposed change to TS SR 4.8.1.1.2.b affects the testing standard for the fuel oil supply for EDGs. Applying the more recent standard for fuel oil testing does not create any new or different accident initiators because adoption of a more recent standard does not affect the capability of the diesel fuel oil to perform its required function.

The proposed change to TS SR 4.8.1.1.2.d affects the performance of load rejection testing and the 60-minute loaded run at greater than or equal to 2000 kW. Evaluations and operating experience have demonstrated that performance of these tests online will not impact electrical distribution system reliability. No new or different accidents could occur as a result of performing these tests online. Therefore, the proposed change does not create the possibility of a new or different kind of accident from any previously evaluated.

3. Does the proposed change involve a significant reduction in a margin of safety?

Response: No.

The proposed change to TS SR 4.8.1.1.2.b affects the testing standard for the fuel oil supply for EDGs. Adoption of a more recent standard does not affect the capability of the diesel fuel oil to perform its required function.

The proposed change to TS SR 4.8.1.1.2.d affects the performance of load rejection testing and the 60-minute loaded run at greater than or equal to 2000 kW. Evaluations and operating experience have demonstrated that performance of these tests online regardless of the test outcome will not impact electrical distribution system reliability. The required testing will continue to demonstrate acceptable EDG performance. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mary E. O'Reilly, Attorney, FirstEnergy Corporation, 76 South Main Street, Akron, OH 44308.

NRC Section Chief: Gene Y. Suh.

FirstEnergy Nuclear Operating Company, Docket No. 50-346, Davis-Besse Nuclear Power Station, Unit 1, Ottawa County, Ohio

Date of amendment request: July 27, 2005.

Description of amendment request: The proposed change would revise technical specification (TS) 3/4.10.2, “Special Test Exceptions—Physics Tests,” to increase the allowed time between the flux channel Channel Functional Tests and the beginning of Mode 2 Physics Tests from 12 hours to 24 hours.

Basis for proposed no significant hazards consideration determination: As required by 10 CFR 50.91(a), the licensee has provided its analysis of the issue of no significant hazards consideration, which is presented below:

1. Does the proposed change involve a significant increase in the probability or consequences of an accident previously evaluated?

Response: No.

The changes affect the Limiting Condition for Operation for “Special Test Exceptions—Physics Tests,” in particular, the neutron flux instrumentation CHANNEL FUNCTIONAL TEST that must precede PHYSICS TESTING in MODE 2. The neutron flux instrumentation is not an accident initiator, but is credited for two events. These events are Uncontrolled Control Rod Assembly Group Withdrawal From a Subcritical Condition (Startup Accident), and Uncontrolled Control Rod Assembly Group Withdrawal at Power. The proposed change will not impact the operation of the neutron flux instrumentation during these events. Consequently, the proposed changes will have no impact on the probability or consequences of any accident previously evaluated.

2. Does the proposed change create the possibility of a new or different kind of accident from any accident previously evaluated?

Response: No.

The changes affect the Limiting Condition for Operation for Refueling Operations—Instrumentation, in particular, the neutron flux instrumentation. The changes are only applicable in MODE 2. Under the proposed change, the neutron flux instrumentation will continue to operate in the same manner as previously considered. Accident initial conditions and assumptions remain as previously analyzed.

The proposed changes do not introduce any new or different accident initiators. In addition, the requested increase in the allowed time between the flux channel Channel Functional Tests and the beginning of Mode 2 Physics Tests from 12 hours to 24 hours will not adversely impact the instrumentation's stability or capability. Therefore, the proposed changes do not create the possibility of a new or different kind of accident from any previously evaluated.

3. Does the proposed change involve a significant reduction in a margin of safety?

Response: No.

The changes affect the Limiting Condition for Operation for Refueling Operations—Instrumentation; in particular, the neutron flux instrumentation. The proposed changes to TS will not result in design changes to the neutron flux instrumentation or in changes to how the neutron flux instrumentation is used. As discussed in the response to question #1 above, channel operability will continue to be ensured by the CHANNEL CHECK and CHANNEL CALIBRATION requirements of TS 4.3.1.1.1. Therefore, the proposed change will not involve a significant reduction in a margin of safety.

The NRC staff has reviewed the licensee's analysis and, based on this review, it appears that the three standards of 10 CFR 50.92(c) are satisfied. Therefore, the NRC staff proposes to determine that the amendment request involves no significant hazards consideration.

Attorney for licensee: Mary E. O'Reilly, Attorney, FirstEnergy Corporation, 76 South Main Street, Akron, OH 44308.

NRC Section Chief: Gene Y. Suh.

Omaha Public Power District, Docket No. 50-285, Fort Calhoun Station, Unit No. 1, Washington County, Nebraska

Date of amendment request: August 11, 2005.

Description of amendment request: The proposed amendment would revise Figure 2-3 in Technical Specification (TS) 2.3(4) and related technical information to this figure in the Basis of TS 3.6. This figure shows the minimum volume of Tri-sodium Phosphate (TSP) required for a specified reactor coolant system (RCS) hot zero power (HZP) critical boron concentration (CBC) over the operating cycle. Maintaining a volume of TSP in the baskets that is within the area of acceptable operation of Figure 2-3 ensures that the recirculation water in the containment sump attains a pH of 7.0 or greater following a loss-of-coolant accident (LOCA). This figure allows the required volume of TSP to gradually decrease as HZP CBC decreases during the operating cycle. As HZP CBC decreases, less TSP is required to attain a pH of 7.0 or greater in the containment sump. Also, TS 3.6(2) is being revised to remove the term Dodecahydrate to be consistent with Fort Calhoun Station TS Amendment No. 232.

Basis for proposed no significant hazards consideration determination: As required by 10 CFR 50.91(a), the licensee has provided its analysis of the issue of no significant hazards consideration, which is presented below:

1. Does the proposed change involve a significant increase in the probability or consequences of an accident previously evaluated?

Response: No.

There are no changes to the design or operation of the plant that could affect system, component, or accident functions as a result of revising the current volume of active TSP required during Operating Modes 1 and 2 with a new figure that reflects the future RCS volume change. All systems and components function as designed, and the performance requirements have been evaluated and found to be acceptable.

Allowing the required volume of active TSP to decrease over the operating cycle as HZP CBC decreases will ensure a pH of 7.0 or greater in the containment sump following a LOCA, yet provides [an] adequate margin for EEQ [environmental equipment qualification] concerns as containment sump pH is less likely to exceed 8.0. Therefore, the proposed change does not involve a significant increase in the probability or consequences of an accident previously evaluated.

2. Does the proposed change create the possibility of a new or different kind of accident from any accident previously evaluated?

Response: No.

No new accident scenarios, failure mechanisms, or single failures are introduced as a result of the proposed change. All systems, structures, and components previously required for mitigation of an event remain capable of fulfilling their intended design function with this change to the TS.

The proposed change has no adverse effects on any safety-related systems or component and does not challenge the performance or integrity of any safety-related system. The proposed change has evaluated the TSP configuration such that no new accident scenarios or single failures are introduced. Therefore, the proposed change does not create the possibility of a new or different kind of accident from any previously evaluated.

3. Does the proposed change involve a significant reduction in a margin of safety?

Response: No.

Allowing the required volume of active TSP to decrease as HZP CBC decreases still ensures a pH of 7.0 or greater in the containment sump following a LOCA and still provides [an] adequate margin for EEQ concerns as containment sump pH is less likely to exceed 8.0. Therefore, this change does not involve a significant reduction in the margin of safety.

Evaluations were made that indicate that the margin for pH control is not altered by the proposed changes. A TSP volume that is dependent on HZP CBC has been evaluated with respect to neutralization of all borated water and acid sources. These evaluations concluded that there would be no impact on pH control, and hence, no reduction in the margin of safety related to post LOCA conditions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: James R. Curtiss, Esq., Winston & Strawn, 1400 L Street, NW., Washington, DC 20005-3502.

NRC Section Chief: Daniel S. Collins, Acting.

Omaha Public Power District, Docket No. 50-285, Fort Calhoun Station, Unit No. 1, Washington County, Nebraska

Date of amendment request: August 11, 2005.

Description of amendment request: The proposed amendment includes various changes to the Technical Specifications (TS). Specifically, Omaha Public Power District (OPPD) seeks to delete the surveillance requirement (SR) of TS 2.10.2(9)b(iii) to verify the shutdown margin every 8-hour shift during low power physics testing. This change will make TS 2.10.2(9)b more consistent with SR 3.1.7 of NUREG-1432, Standard Technical Specifications—Combustion Engineering Plants, Revision 3.

The Containment Structural Tests Report of TS 5.9.3c is proposed for deletion. Amendment No. 216 deleted TS 3.5(5), which required submittal of the TS 5.9.3c report. The deletion of the report and the remaining changes described in Attachment 1 are considered administrative in nature.

Basis for proposed no significant hazards consideration determination: As required by 10 CFR 50.91(a), the licensee has provided its analysis of the issue of no significant hazards consideration, which is presented below:

1. Does the proposed amendment [change] involve a significant increase in the probability or consequences of an accident previously evaluated?

Response: No.

This license amendment request (LAR) makes no changes to the design or operation of the plant that could affect system, component, or accident functions.

The deletion of Technical Specification (TS) 2.10.2(9)b(iii) eliminates the need to verify shutdown margin (SDM) every 8 hours during low power physics testing. Reactivity equivalent to at least the highest estimated CEA worth is available from the operable CEA [control element assembly] groups withdrawn (assuming the most reactive CEA of the groups withdrawn is stuck in the fully withdrawn position). Each CEA not fully inserted is demonstrated capable of full insertion when tripped from at least the 50% withdrawn position within 7 days of reducing SDM. Finally, the position of the trippable control element assemblies (CEAs) during low power physics testing continues to be verified every 2 hours. The SDM provided by the CEAs ensures that the operators can respond promptly to unexpected increases in core reactivity. Thus, this change does not involve a significant increase in the probability or consequences of an accident previously evaluated.

Deletion of the Containment Structural Tests Report is not an initiator of any previously evaluated accidents. OPPD will continue to report conditions indicative of containment deterioration or degradation in the Inservice Inspection (ISI) Summary Report required by 10 CFR 50.55a, ASME [American Society of Mechanical Engineers] Section XI, Subsection IWA-6000, and TS 5.9.3a.

The Commission has provided guidance concerning the application of standards for determining whether a significant hazards consideration exists by providing certain examples (48 FR 14864) of amendments that are considered not likely to involve significant hazards considerations. One or more of these examples are cited to justify deletion of the Containment Structural Tests Report and for each of the remaining administrative changes. Thus, these changes do not increase the probability or consequences of any accident previously evaluated.

2. Does the proposed amendment [change] create the possibility of a new or different kind of accident from any accident previously evaluated?

Response: No.

This proposed change affects only the TSs and does not involve a physical change to the plant. No modifications are made to existing components nor will any new or different type of equipment be installed. The deletion of the surveillance requirement (SR) to verify SDM every 8 hours during low power physics testing does not create the possibility of a new or different kind of accident.

The SRs that remain ensure that the SDM provided by the CEAs is adequate and that the CEAs are capable of full insertion. CEA positions will continue to be verified at least once per [a] 2-hour interval during low power physics testing. The SDM provided by the CEAs ensures that the operators can respond promptly to unexpected increases in core reactivity.

The deletion of a report that is redundant to federal regulations is an administrative change that does not create the possibility of a new or different kind of accident. OPPD will continue to report conditions indicative of containment deterioration or degradation in the ISI Summary Report.

The remaining changes proposed by this LAR are administrative in nature. These changes do not impose different requirements and do not alter assumptions made in the safety analysis and licensing basis. Therefore, they do not create the possibility of a new or different kind of accident from any accident previously evaluated.

3. Does the proposed amendment [change] involve a significant reduction in a margin of safety?

Response: No.

The proposed changes do not affect any safety analysis assumptions. During low power physics testing, the position of the trippable CEAs will continue to be verified at 2-hour intervals. The deleted 8-hour SDM surveillance requirement is performed less frequently, is redundant and unnecessary. The SDM provided by the CEAs ensures that the operators can respond promptly to unexpected increases in core reactivity. The Containment Structural Tests Report can be deleted since OPPD will continue to report conditions indicative of containment deterioration or degradation in accordance with 10 CFR 50.55a in the ISI Summary Report required by TS 5.9.3a.

The NRC staff has reviewed the licensee's analysis and, based on this review, it appears that the three standards of 10 CFR 50.92(c) are satisfied. Therefore, the NRC staff proposes to determine that the amendment request involves no significant hazards consideration.

Attorney for licensee: James R. Curtiss, Esq., Winston & Strawn, 1400 L Street, NW., Washington, DC 20005-3502.

NRC Section Chief: Daniel S. Collins, Acting.

South Carolina Electric & Gas Company, South Carolina Public Service Authority, Docket No. 50-395, Virgil C. Summer Nuclear Station (VCSNS), Unit No. 1, Fairfield County, South Carolina

Date of amendment request: June 22, 2005.

Description of amendment request: The proposed changes would revise the reactor coolant system heatup and cooldown curves located in Technical Specification (TS) section 3/4.4.9 to reflect the results of the last reactor vessel surveillance specimen that was removed from the reactor vessel and analyzed.

Basis for proposed no significant hazards consideration determination: As required by 10 CFR 50.91(a), the licensee has provided its analysis of the issue of no significant hazards consideration, which is presented below:

1. Does the proposed change involve a significant increase in the probability or consequences of an accident previously evaluated?

Response: No.

The proposed changes revise the P/T [pressure/temperature] limit curves to provide figures that reflect the results of the analysis performed on reactor vessel surveillance specimen Z. This analysis was performed using NRC approved methodology as documented in WCAP 14040-NP-A, Revision 4, utilizing the 1998 ASME [American Society of Mechanical Engineers] Code, Section XI through the 2000 addenda, Appendix G requirements. These curves provide the limits for operation of the Reactor Coolant System during heatup, cooldown, criticality, and hydrostatic testing. These curves are provided without instrument uncertainties included, however, the uncertainties are included in the curves provided in the plant operating procedures. The limits protect the reactor vessel from brittle fracture by separating the region of acceptable operation from the region where brittle fracture is postulated to occur. Failure of the reactor vessel is not a VCSNS design basis accident, and, in general, reactor vessel failure has a low probability of occurrence and is not considered in the safety analysis. Therefore, the change does not involve a significant increase in the probability or consequences of an accident previously evaluated.

2. Does the proposed change create the possibility of a new or different kind of accident from any accident previously evaluated?

Response: No.

The proposed changes revises the P/T limits curves, Section 3/4.4.9, to incorporate the results fo the analysis performed on reactor vessel specimen Z. There are no physical plant design changes or significant changes in any operating procedures. This change adjusts the heatup and cooldown curves to reflect the shift in nil-ductility reference temperature of the reactor vessel as a result of neutron embrittlement. Therefore, the change does not create the possibility of a new or different kind of accident from any accident previously evaluated.

3. Does this change involve a significant reduction in a margin of safety?

Response: No.

The proposed changes revise the P/T limits curves, Section 3/4.4.9, to incorporate the results of the analysis performed on reactor vessel specimen Z. The new P/T curves ensure that the 10 CFR 50 Appendix G, requirements are not exceeded during normal operation including Reactor Coolant System transients during heatup, cooldown, criticality and hydrostatic testing. The new P/T curves were prepared, using approved industry methodology, for a projected reactor vessel neutron exposure of 56 EFPY [effective full-power year]. The proposed P/T limit curves reflect a shift of the limits in a conservative direction from the current requirements. Therefore, the change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Thomas G. Eppink, South Carolina Electric & Gas Company, Post Office Box 764, Columbia, South Carolina 29218.

NRC Section Chief: Evangelos C. Marinos.

Tennessee Valley Authority, Docket Nos. 50-260 and 50-296, Browns Ferry Nuclear Plant, Units 2 and 3, Limestone County, Alabama

Date of amendment request: July 29, 2005.

Brief description of amendments: The proposed amendments revised the technical specification (TS) testing frequency for the surveillance requirement (SR) 3.1.4.2, control rod scram time testing, from 120 days cumulative operation in MODE 1 to 200 days cumulative operation in MODE 1.

The NRC staff issued a notice of availability of a model no significant hazards consideration (NSHC) determination for referencing in licensing amendment applications in the Federal Register on August 23, 2004 (69 FR 51864). The licensee affirmed the applicability of the model NSHC determination in its application dated July 29, 2005.

Basis for proposed no significant hazards consideration determination: As required by 10 CFR 50.91(a), an analysis of the issue of no significant hazards consideration is presented below:

1. Does the change involve a significant increase in the probability or consequences of an accident previously evaluated?

Response: No.

The proposed change extends the frequency for testing control rod scram time testing from every 120 days of cumulative Mode 1 operation to 200 days of cumulative Mode 1 operation. The frequency of surveillance testing is not an initiator of any accident previously evaluated. The frequency of surveillance testing does not affect the ability to mitigate any accident previously evaluated, as the tested component is still required to be operable. Therefore, the proposed change does not involve a significant increase in the probability or consequences of an accident previously evaluated.

2. Does the change create the possibility of a new or different kind of accident from any accident previously evaluated?

Response: No.

The proposed change extends the frequency for testing control rod scram time testing from every 120 days of cumulative Mode 1 operation to 200 days of cumulative Mode 1 operation. The proposed change does not result in any new or different modes of plant operation. Therefore, the proposed change does not create the possibility of a new or different kind of accident from any previously evaluated.

3. Does the proposed change involve a significant reduction in a margin of safety?

Response: No.

The proposed change extends the frequency for testing control rod scram time testing from every 120 days of cumulative Mode 1 operation to 200 days of cumulative Mode 1 operation. The proposed change continues to test the control rod scram time to ensure the assumptions in the safety analysis are protected. Therefore, the proposed change does not involve a significant reduction in a margin of safety.

The NRC staff proposes to determine that the amendment request involves no significant hazards consideration.

Attorney for licensee: General Counsel, Tennessee Valley Authority, 400 West Summit Hill Drive, ET 11A, Knoxville, Tennessee 37902.

NRC Section Chief: Michael L. Marshall, Jr.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Duke Energy Corporation, Docket Nos. 50-269, 50-270, and 50-287, Oconee Nuclear Station, Units 1, 2, and 3, Oconee County, South Carolina

Date of amendment request: August 18, 2005.

Brief description of amendment request: The proposed Technical Specification changes are needed to accommodate the replacement of the Reactor Building Emergency Sump suction inlet trash racks and screens with strainers.

Date of publication of individual notice in Federal Register: August 31, 2005 (70 FR 51852).

Expiration date of individual notice: September 30, 2005.

Florida Power Corporation, et al., Docket No. 50-302, Crystal River Unit No. 3 Nuclear Generating Plant, Citrus County, Florida

Date of amendment request: January 27, 2005, revised by letter dated August 12, 2005.

Brief description of amendment request: The proposed amendment would allow the licensee to utilize a probabilistic methodology to determine the contribution to main steamline break leakage rates for the once-through steam generator (OTSG) from the tube end crack (TEC) alternate repair criteria described in Improved Technical Specification (ITS) 5.6.2.10.2.f and also involves a change to ITS 5.6.2.10.2.f to incorporate the basis of the proposed probabilistic methodology and the method and technical justification for projecting the TEC leakage that may develop during the next operating cycle following the inservice inspection of each OTSG.

Date of publication of individual notice in Federal Register: August 26, 2005 (70 FR 50424).

Expiration date of individual notice: September 26, 2005.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

Duke Energy Corporation, et al., Docket Nos. 50-413, 50-414, 50-369, and 50-370, Catawba Nuclear Station, Units 1 and 2, York County, South Carolina and McGuire Nuclear Station, Units 1 and 2, Mecklenburg County, North Carolina.

Date of application for amendments: July 7, 2005.

Brief description of amendments: The amendments revised the Technical Specifications TS 3.9.1, “Boron Concentration,” to clarify the technical requirements for boron concentration when the refueling canal and the refueling cavity are not connected to the reactor coolant system.

Date of issuance: September 1, 2005.

Effective date: As of the date of issuance and shall be implemented within 30 days.

Amendment Nos.: 231/213 and 226/221.

Renewed Facility Operating License Nos. NPF-35, NPF-52, NPF-9 and NPF-17: Amendments revised the Technical Specifications.

Date of initial notice in Federal Register: August 2, 2005 (70 FR 44401).

The Commission's related evaluation of the amendments is contained in a Safety Evaluation dated September 1, 2005.

No significant hazards consideration comments received: No.

Entergy Operations, Inc., Docket No. 50-313, Arkansas Nuclear One, Unit No. 1, Pope County, Arkansas

Date of amendment request: December 20, 2004, as supplemented by letters dated June 6 and August 10, 2005.

Brief description of amendment: The Amendment revised the safety analysis report (SAR) to allow the licensee the use of a lifting tripod (a special lifting device) to remove and install the reactor vessel (RV) head and certain RV internals during refueling outages, using the reactor building polar crane.

Date of issuance: August 30, 2005.

Effective date: As of the date of issuance and shall be implemented within 30 days from the date of issuance. The SAR changes shall be implemented in the next periodic update to the SAR in accordance with Paragraph 50.71(e) of Title 10 of the Code of Federal Regulations.

Amendment No.: 225.

Renewed Facility Operating License No. DPR-51: Amendment revised the SAR.

Date of initial notice in Federal Register: February 1, 2005 (70 FR 5242)

The supplements dated June 6 and August 10, 2005, provided additional information that clarified the application, did not expand the scope of the application as originally noticed, and did not change the staff's original proposed no significant hazards consideration determination as published in the Federal Register.

The Commission's related evaluation of the amendment is contained in a Safety Evaluation dated August 30, 2005.

No significant hazards consideration comments received: No.

FirstEnergy Nuclear Operating Company, Docket No. 50-346, Davis-Besse Nuclear Power Station, Unit 1, Ottawa County, Ohio

Date of application for amendment: May 11, 2005.

Brief description of amendment: This amendment allows a one-time extension of the surveillance interval for the reactor vessel internals vent valves from September 2005 to March 2006.

Date of issuance: September 6, 2005.

Effective date: As of the date of issuance and shall be implemented within 14 days.

Amendment No.: 268.

Facility Operating License No. NPF-3: Amendment revised the Technical Specifications/License.

Date of initial notice in Federal Register: July 5, 2005 (70 FR 38719).

The Commission's related evaluation of the amendment is contained in a Safety Evaluation dated September 6, 2005.

No significant hazards consideration comments received: No.

FirstEnergy Nuclear Operating Company, Docket No. 50-346, Davis-Besse Nuclear Power Station, Unit 1, Ottawa County, Ohio

Date of application for amendment: December 20, 2004, as supplemented by letter dated April 6, 2005.

Brief description of amendment: This amendment revised Technical Specification (TS) 3/4.9.2, “Refueling Operations—Instrumentation.” Specifically, the changes revised TS 3/4.9.2 concerning source range flux monitors to be more consistent with improved Standard Technical Specifications. The changes achieve consistency with corresponding requirements in NUREG-1430, “Standard Technical Specifications Babcock and Wilcox Plants,” Revision 3, dated June 2004, with exceptions to account for plant-specific design differences and retention of current licensing basis requirements and commitments.

Date of issuance: September 12, 2005.

Effective date: As of the date of issuance and shall be implemented within 120 days.

Amendment No.: 269.

Facility Operating License No. NPF-3: Amendment revised the Technical Specifications.

Date of initial notice in Federal Register: February 15, 2005 (70 FR 7765). The supplement dated April 6, 2005, provided additional information that clarified the application, did not expand the scope of the application as originally notice, and did not change the NRC staff original proposed no significant hazards consideration determination as published in the Federal Register on February 15, 2005 (70 FR 7765).

The Commission's related evaluation of the amendment is contained in a Safety Evaluation dated September 12, 2005.

No significant hazards consideration comments received: No.

Florida Power Corporation, et al., Docket No. 50-302, Crystal River Unit No. 3 Nuclear Generating Plant, Citrus County, Florida

Date of application for amendment: July 8, 2004.

Brief description of amendment: The amendment deletes one-time use footnotes that have expired or have already been used from the Crystal River Unit 3 (CR-3) Improved Technical Specifications (ITS). Specifically, ITS 3.7.9, “Nuclear Services Seawater System” and ITS 3.8.1, “AC Sources—Operating (Emergency Diesel Generator)” notes are removed. These changes are administrative in nature and do not alter any operating license requirements.

Date of issuance: September 6, 2005.

Effective date: As of the date of issuance and shall be implemented within 60 days of issuance.

Amendment No.: 220.

Facility Operating License No. DPR-72: Amendment revises the Technical Specifications.

Date of initial notice in Federal Register: August 3, 2004 (69 FR 46585).

The Commission's related evaluation of the amendment is contained in a Safety Evaluation dated September 6, 2005.

No significant hazards consideration comments received: No.

Indiana Michigan Power Company, Docket Nos. 50-315 and 50-316, Donald C. Cook Nuclear Plant, Units 1 and 2, Berrien County, Michigan

Date of application for amendments: September 21, 2004, as supplemented by letters dated March 18, April 7, May 6, and August 10, 2005.

Brief description of amendments: The amendments the 69 kV offsite power circuit limiting conditions for operation action statements. Add a license condition to extend the required action completion time for an inoperable alternate offsite power source (69 kV circuit) from the current 72 hours to 14 days on a one-time basis.

Date of issuance: September 9, 2005.

Effective date: As of the date of issuance and shall be implemented within 120 days.

Amendment Nos.: 289, 271.

Facility Operating License Nos. DPR-58 and DPR-74: Amendments revised the Technical Specifications.

Date of initial notice in Federal Register: October 26, 2004 (69 FR 62476)

The supplemental letters contained clarifying information and did not change the initial no significant hazards consideration determination and did not expand the scope of the original Federal Register notice.

The Commission's related evaluation of the amendments is contained in a Safety Evaluation dated September 9, 2005.

No significant hazards consideration comments received: No.

PSEG Nuclear LLC, Docket Nos. 50-272 and 50-311, Salem Nuclear Generating Station, Unit Nos. 1 and 2, Salem County, New Jersey

Date of application for amendments: September 27, 2004, as supplemented by letter dated August 2, 2005.

Brief description of amendments: The amendments revised Technical Specifications (TSs) related to the reactor coolant pump flywheel inspection program by increasing the inspection interval to 20 years.

Date of issuance: September 9, 2005.

Effective date: As of the date of issuance and shall be implemented within 60 days.

Amendment Nos.: 265 and 247.

Facility Operating License Nos. DPR-70 and DPR-75: The amendments revised the TSs.

Date of initial notice in Federal Register: March 29, 2005 (70 FR 15945). The licensee's supplement dated August 2, 2005, did not change the scope of the proposed amendment as described in the original notice of proposed action published in the Federal Register, and did not change the initial proposed no significant hazards consideration determination.

The Commission's related evaluation of the amendments is contained in a Safety Evaluation dated September 9, 2005.

No significant hazards consideration comments received: No.

Southern California Edison Company, et al., Docket Nos. 50-361 and 50-362, San Onofre Nuclear Generating Station, Units 2 and 3, San Diego County, California

Date of application for amendments: August 26, 2004, as supplemented by letter dated July 18, 2005.

Brief description of amendments: The amendments revise the following Technical Specifications (TSs): TS 4.2.1, “Fuel Assemblies,” adds reference to ZIRLO™ clad fuel and filler rods; and TS 5.7.1.5, “Core Operating Limits Report (COLR),” adds the following references to the list of analytical methods used to determine the core operating limits: “Calculative Methods for the CE Nuclear Power Large Break LOCA [loss-of-coolant accident] Evaluation Model,” CENPD-132, Supplement 4-P-A, August 2000, and “Implementation of ZIRLO™ Cladding Material in CE Nuclear Power Fuel Assembly Designs,” CENPD-404-P-A, November 2001. These changes were requested to implement ZIRLO™ fuel rod cladding material into the fuel design for San Onofre Nuclear Generating Station, Units 2 and 3.

Date of issuance: September 14, 2005.

Effective date: As of the date of issuance, and shall be implemented within 60 days from the date of issuance.

Amendment Nos.: Unit 2-199; Unit 3-190.

Facility Operating License Nos. NPF-10 and NPF-15: The amendments revised the Technical Specifications.

Date of initial notice in Federal Register: September 28, 2004 (69 FR 57991).

The supplemental letter dated July 18, 2005, provided additional information that clarified the application, did not expand the scope of the application as originally noticed, and did not change the NRC staff's original proposed no significant hazards consideration determination.

The Commission's related evaluation of the amendments is contained in a Safety Evaluation dated September 14, 2005.

No significant hazards consideration comments received: No.

Tennessee Valley Authority, Docket Nos. 50-327 and 50-328, Sequoyah Nuclear Plant, Units 1 and 2, Hamilton County, Tennessee

Date of application for amendments: April 27, 2005.

Brief description of amendments: The amendments revised the applicability of Technical Specification (TS) 3.4.3, Functional Unit 18.A, “Turbine Trip, Low Fluid Oil Pressure,” and TS Functional Unit 18.B, “Turbine Trip, Turbine Stop Valve Closure,” by altering Table 3.3-1, “Reactor Trip System Instrumentation,” and Table 4.3-1, “Reactor Trip System Instrumentation Surveillance Requirements.” The change adds a footnote that indicates that the Mode 1 applicability is limited to operation above the P-9 (50 percent rated thermal power) interlock setpoint value. Additionally, the action for an inoperable turbine stop valve closure channel is revised to be consistent with the design of this function. Finally, an option is added to permit a reduction in thermal power to below the P-9 interlock within 10 hours for an inoperable turbine stop valve closure channel.

Date of issuance: September 2, 2005.

Effective date: As of the date of issuance and shall be implemented within 45 days.

Amendment Nos.: 304 and 294.

Facility Operating License Nos. DPR-77 and DPR-79: Amendments revised the technical specifications.

Date of initial notice in Federal Register: July 5, 2005 (70 FR 38722).

The Commission's related evaluation of the amendments is contained in a Safety Evaluation dated September 2, 2005.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer or the Atomic Safety and Licensing Board that the petition, request and/or the contentions should be granted based on a balancing of the factors specified in 10 CFR 2.309(a)(1)(i)-(viii).

Energy Operations, Inc., Docket No. 50-368, Arkansas Nuclear One, Unit No. 2, Pope County, Arkansas

Date of amendment request: July 21, 2005, as supplemented by letters dated August 4 and August 26, 2005. The supplemental letters provided additional information that clarified the application, did not expand the scope of the application as originally noticed, and did not change the staff's original proposed no significant hazards consideration determination as published in the Federal Register.

Description of amendment request: To incorporate new Arkansas Nuclear One, Unit 2, Technical Specifications in support of dry cask loading operations in the spent fuel pool. The amendment ensures subcritical conditions are maintained in the spent fuel pool during dry cask loading operations by relying on realistically conservative fuel burnup credit.

Date of issuance: September 6, 2005.

Effective date: As of the date of issuance to be implemented within 30 days from the date of issuance.

Amendment No.: 261.

Facility Operating License No. NPF-6: Amendment revised the Technical Specifications.

Public comments requested as to proposed no significant hazards consideration (NSHC): Yes (70 FR 48196, published August 16, 2005). The notice provided an opportunity to submit comments on the Commission's proposed NSHC determination. No comments have been received. The notice also provided an opportunity to request a hearing by November 4, 2005, but indicated that if the Commission makes a final NSHC determination, any such hearing would take place after issuance of the amendment.

The Commission's related evaluation of the amendment, finding of exigent circumstances, state consultation, and final NSHC determination are contained in a safety evaluation dated September 6, 2005.

Attorney for licensee: Winston & Strawn, 1700 K Street, NW., Washington, DC 20006-3817.

NRC Section Chief: David Terao.

Dated at Rockville, Maryland, this 16th day of September 2005.
For the Nuclear Regulatory Commission.
Ledyard B. Marsh,
Director, Division of Licensing Project Management, Office of Nuclear Reactor Regulation.

[FR Doc. 05-19028 Filed 9-26-05; 8:45 am]

BILLING CODE 7590-01-P